DEPARTMENT OF ENERGY

Federal Energy Regulatory Commission

Notice of Application for Land and Shoreline Management Plan

September 27, 2000.

Take notice that the following hydroelectric application has been filed with the Commission and is available for public inspection:

a. Application Type: Land and Shoreline Management Plan.

b. Project No.: 1417-080.

c. Date Filed: July 28, 2000; supplemented August 14, 2000.

d. Applicant: Central Nebraska Public Power and Irrigation District.

e. Name of Project: Kingsley Dam Hydroelectric Project.

f. Location: The Kingsley Dam Project is located on the North Platte and Platte Rivers in Keith, Lincoln, Dawson and Gosper Counties, Nebraska.

g. Applicant Contact: Mr. Jeremiah (Jay) L. Maher, Central Nebraska Public Power and Irrigation District, P.O. Box 740, 415 Lincoln Street, Holdrege, NE 68949.

h. FERC Contact: Questions about this notice can be answered by Steve Hocking at (202) 219-2656 or e-mail address: steve.hocking@ferc.fed.us. Please note the Commission cannot accept comments, recommendations, motions to intervene or protests sent by e-mail; these documents must be filed as described below.

i. Deadline for filing comments, recommendations, motions to intervene and protests: October 30, 2000.

All documents (original and eight copies) should be filed with: David P. Boergers, Secretary, Federal Energy Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

j. Description of the Application: Central Nebraska Public Power and Irrigation District (Central), licensee for the Kingsley Dam Hydroelectric Project, filed a Land and Shoreline Management Plan (LSMP) for Commission approval. Central filed the plan to satisfy the requirements of article 421 of its license issued July 29, 1998. The LSMP addresses: (1) those project lands and shorelines that are and will be reserved for present and future wildlife, public recreation, residential, agricultural and other uses; (2) proposed changes in land use; (3) the protection of least tern and piping plover nesting sites at Lake McConaughy; (4) the need to protect bald eagle perch and roost sites on project lands; (5) the need to control aquatic vegetation and sedimentation in project reservoirs; (6) the use of project lands and shorelines designated for public recreation and; (7) Central must update the LSMP every 5 years.

k. Locations of the application: A copy of the application is available for inspection and reproduction at the Commission's Public Reference Room at 888 First Street NE, Room 2A, Washington, DC 20426, or by calling (202) 208-1371. The application may be viewed on the web at http://www.ferc.fed.us/online/rims.htm. Call (202) 208-2222 for assistance.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS,” “RECOMMENDATIONS FOR TERMS AND CONDITIONS,” “PROTEST,” or “MOTION TO INTERVENE,” as applicable, and the Project Number (P-1417-080) of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the applicant. If an agency does not file comments within the time specified for filing comments, it will be presumed to have no comments. One copy of an agency's comments must also be sent to the Applicant's representatives.

Linwood A. Watson, Jr.,
Acting Secretary.

[FR Doc. 00-25311 Filed 10-2-00; 8:45 am]

BILLING CODE 6717-01-M